DEPARTMENT OF ENERGY

Federal Energy Regulatory Commission

Combined Notice of Filings #1

Take notice that the Commission received the following electric corporate filings:

Docket Numbers: EC26-32-000.

Applicants: Plus Power, LLC, Superstition Energy Storage LLC, Sierra Estrella Energy Storage LLC, Energy Storage Resources, LLC, Cross Town Energy Storage, LLC, Cranberry Point Energy Storage, LLC.

Description: Joint Application for Authorization Under Section 203 of the Federal Power Act of Plus Power, LLC, et al.

Filed Date: 11/26/25.

Accession Number: 20251126-5471.

Comment Date: 5 p.m. ET 12/17/25.

Docket Numbers: EC26-33-000.

Applicants: Eastover Solar LLC, PGR 2021 Lessee 17, LLC.

Description: Joint Application for Authorization Under Section 203 of the Federal Power Act of Eastover Solar LLC, et al.

Filed Date: 11/26/25.

Accession Number: 20251126-5474.

Comment Date: 5 p.m. ET 12/17/25.

Take notice that the Commission received the following exempt wholesale generator filings:

Docket Numbers: EG26-84-000.

Applicants: Alle-Catt Wind Energy LLC.

Description: Alle-Catt Wind Energy LLC submits Notice of Self-Certification of Exempt Wholesale Generator Status.

Filed Date: 11/26/25.

Accession Number: 20251126-5445.

Comment Date: 5 p.m. ET 12/17/25.

Take notice that the Commission received the following electric rate filings:

Docket Numbers: ER10-3297-020.

Applicants: Powerex Corporation.

Description: Notice of Change in Status of Powerex Corporation.

Filed Date: 11/25/25.

Accession Number: 20251125-5377.

Comment Date: 5 p.m. ET 12/16/25.

Docket Numbers: ER26-619-000.

Applicants: Vineyard Reliability LLC.

Description: Tariff Amendment: MBR Tariff Cancellation to be effective 12/31/2025.

Filed Date: 11/28/25.

Accession Number: 20251128-5118.

Comment Date: 5 p.m. ET 12/19/25.

Docket Numbers: ER26-620-000.

Applicants: Midcontinent Independent System Operator, Inc., Michigan Electric Transmission Company, LLC.

Description: § 205(d) Rate Filing: Michigan Electric Transmission Company, LLC submits tariff filing per 35.13(a)(2)(iii: 2025-12-01_SA 4597 METC-Grand Haven TIA to be effective 1/31/2026.

Filed Date: 12/1/25.

Accession Number: 20251201-5371.

Comment Date: 5 p.m. ET 12/22/25.

Docket Numbers: ER26-621-000.

Applicants: Alle-Catt Wind Energy LLC.

Description: Initial Rate Filing: Application for Market-Based Rate Authorization to be effective 1/31/2026.

Filed Date: 12/1/25.

Accession Number: 20251201-5377.

Comment Date: 5 p.m. ET 12/22/25.

Docket Numbers: ER26-622-000.

Applicants: Midcontinent Independent System Operator, Inc., Duke Energy Indiana, LLC.

Description: § 205(d) Rate Filing: Duke Energy Indiana, LLC submits tariff filing per 35.13(a)(2)(iii: 2025-12-01_DEI-GLH JPZ Agrmt Related to Logansport Integration to be effective 2/1/2026.

Filed Date: 12/1/25.

Accession Number: 20251201-5390.

Comment Date: 5 p.m. ET 12/22/25.

Docket Numbers: ER26-623-000.

Applicants: Southwest Power Pool, Inc.

Description: § 205(d) Rate Filing: 2646R11 Kansas Municipal Energy Agency NITSA NOA to be effective 11/1/2025.

Filed Date: 12/1/25.

Accession Number: 20251201-5407.

Comment Date: 5 p.m. ET 12/22/25.

Docket Numbers: ER26-624-000.

Applicants: Duke Energy Florida, LLC.

Description: Tariff Amendment: DEF—Termination of RS Nos. 423 and 424 to be effective 1/31/2026.

Filed Date: 12/1/25.

Accession Number: 20251201-5494.

Comment Date: 5 p.m. ET 12/22/25.

Docket Numbers: ER26-625-000.

Applicants: Pacific Gas and Electric Company.

Description: § 205(d) Rate Filing: WDT SA 17: November 2025 WAPA Service Agreement Biannual Filing to be effective 2/1/2026.

Filed Date: 12/1/25.

Accession Number: 20251201-5577.

Comment Date: 5 p.m. ET 12/22/25.

Docket Numbers: ER26-626-000.

Applicants: Pacific Gas and Electric Company.

Description: § 205(d) Rate Filing: TO SA 59: November 2025 WAPA Interconnection Agreement Biannual Filing to be effective 2/1/2026.

Filed Date: 12/1/25.

Accession Number: 20251201-5590.

Comment Date: 5 p.m. ET 12/22/25.

Docket Numbers: ER26-627-000.

Applicants: NorthWestern Corporation.

Description: § 205(d) Rate Filing: SA 1032—Firm PTP Trans. Service with Puget Sound Energy to be effective 1/1/2026.

Filed Date: 12/1/25.

Accession Number: 20251201-5601.

Comment Date: 5 p.m. ET 12/22/25.

Docket Numbers: ER26-628-000.

Applicants: Midcontinent Independent System Operator, Inc., Sam Houston Electric Cooperative, Inc.

Description: § 205(d) Rate Filing: Sam Houston Electric Cooperative, Inc. submits tariff filing per 35.13(a)(2)(iii: 2025-12-01_Sam Houston Electric Coooperative (SHECO) TO Integration Att O to be effective 2/1/2026.

Filed Date: 12/1/25.

Accession Number: 20251201-5633.

Comment Date: 5 p.m. ET 12/22/25.

Docket Numbers: ER26-629-000.

Applicants: Cartwright Solar II LLC.

Description: § 205(d) Rate Filing: Cartwright Solar II LLC MBR Tariff to be effective 12/2/2025.

Filed Date: 12/1/25.

Accession Number: 20251201-5663.

Comment Date: 5 p.m. ET 12/22/25.

Take notice that the Commission received the following electric securities filings:

Docket Numbers: ES26-20-000.

Applicants: International Transmission Company.

Description: Application Under Section 204 of the Federal Power Act for Authorization to Issue Securities of International Transmission Company.

Filed Date: 11/25/25.

Accession Number: 20251125-5376.

Comment Date: 5 p.m. ET 12/16/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 1, 2025.
Carlos D. Clay,
Deputy Secretary.

[FR Doc. 2025-21951 Filed 12-3-25; 8:45 am]

BILLING CODE 6717-01-P